DEPARTMENT OF THE INTERIOR

Bureau of Land Management

[NV-020-2110-IW-F202]

Notice to the Public of Temporary Public Lands Closures and Prohibitions of Certain Activities on Public Lands Administered by the Bureau of Land Management, Winnemucca Field Office, Nevada

AGENCY: Bureau of Land Management, Interior.

ACTION: Notice of temporary closure.

SUMMARY: Notice is hereby given that certain lands located in northwestern Nevada are temporarily closed or restricted and certain activities are temporarily prohibited in and around an area near the city of Winnemucca known as Water Canyon and administered by the BLM Winnemucca Field Office in Humboldt County, Nevada.

DATES: September 1, 2006 through December 31, 2006, inclusive.

FOR FURTHER INFORMATION CONTACT: Dave Hays, Assistant Field Manager, Nonrenewable Resources, Winnemucca Field Office, Bureau of Land Management, 5100 E. Winnemucca Blvd., Winnemucca, NV 89445-2921, telephone: (775) 623-1500.

SUPPLEMENTARY INFORMATION: The specified closures, restrictions, and prohibitions are made in the interest of public and employee safety during the period of heavy construction equipment usage at and around the public lands in an area known as Water Canyon Recreation Area, Zone 1. The temporary closure is needed during the construction phase of the implementation of the “Water Canyon Implementation Plan Amendment” (Decision Record was signed 11/16/05). These lands are closed or restricted during the following times:

• September 1, 2006, through December 31, 2006 inclusive: Restricted entry by the public into Zone 1 of the Water Canyon Recreation Area during certain time periods as outlined in the sections below, to provide for safety of individuals.

Authority: 43 CFR 8364.1.

1. Public Closure Area: Within the following legally described locations:

Mount Diablo Meridian

T. 35 N., R. 38 E.,

Section 02, S½SW¼ portion inside barbed wire fence;

Section 11; NE¼ and N½NW¼ portion inside barbed wire fence;

Section 12, SW¼NW¼, N½SW¼, and NW¼ SE¼ portion inside barbed wire fence.

1.0 Between September 1, 2006 and December 31, 2006 Inclusive

1.1 Motorized Use

Motor vehicle use of any kind by the public is prohibited in Zone 1 of the Water Canyon Recreation Area. The following exceptions apply:

Any administrative use authorized by BLM.

Any authorized law enforcement or emergency personnel may enter as needed to perform their official duties.

1.2 Public Entry

Public entry of any persons or individuals is prohibited in Zone 1, during working hours from Monday through Friday. The following exceptions apply:

Any administrative use authorized by BLM.

Any authorized law enforcement or emergency personnel may enter as needed to perform their official duties.

1.3 Public Camping

Public camping is prohibited in Zone 1 during this period of construction.

Penalty: Any person failing to comply with the closure orders may be subject to imprisonment for not more than 12 months, or a fine in accordance with the applicable provisions of 18 U.S.C. 3571, or both.

Dated: August 2, 2006.
Gail G. Givens,
Field Manager.

[FR Doc. E6-18500 Filed 11-1-06; 8:45 am]

BILLING CODE 4310-HC-P